NUCLEAR REGULATORY COMMISSION

[Docket No. 040-009015]

Notice of License Termination and Release of Michigan Department of Natural Resources (MDNR) Site in Bay City, MI for Unrestricted Release

AGENCY: U.S. Nuclear Regulatory Commission.

ACTION: Notice of license termination and site release for unrestricted use.

FOR FURTHER INFORMATION CONTACT: David W. Nelson, Materials Decommissioning Section, Division of Waste Management and Environmental Protection, NRC, Washington, DC, 20555; telephone (301) 415-6626; fax (301) 415-5397; or e-mail at dwn@nrc.gov.

SUPPLEMENTARY INFORMATION:

I. Introduction

Pursuant to 10 CFR 2.106, the U.S. Nuclear Regulatory Commission (NRC) is providing notice that it has terminated license SUC-1581 for the Michigan Department of Natural Resources (MDNR) (Licensee), and has released its Bay City, Michigan, Tobico Marsh State Game Area site for unrestricted use. The Licensee's request for an amendment to authorize decommissioning of its Bay City, Michigan site was previously noticed in the Federal Register on July 2, 2004 (69 FR 41855) with an opportunity to request a hearing.

MDNR provided a final radiological status survey and performed an on-site and off-site dose analysis to demonstrate the site meets the license termination criteria in Subpart E of 10 CFR Part 20. In addition, NRC staff conducted independent measurements of soils and surfaces at the site.

The NRC staff has evaluated MDNR's request, has reviewed the results of the final radiological survey, and has determined that the site meets the unrestricted release dose criteria in 10 CFR 20.1402. The staff prepared a Safety Evaluation Report (SER) to support its termination of the MDNR license.

II. Further Information

In accordance with 10 CFR 2.790 of the NRC's “Rules of Practice,” details with respect to this action, including the SER, are available electronically at the NRC's Electronic Reading Room at http://www.nrc.gov/reading-rm/adams.html. From this site, you can access the NRC's Agencywide Document Access and Management System (ADAMS), which provides text and image files of NRC's public documents. The ADAMS accession number for the termination letter and SER, “Release of Michigan Department of Natural Resources Bay City, Michigan, Tobico Marsh State Game Area Site and Termination of License (License No. SUC-1581)” is ADAMS No. ML052010626. If you do not have access to ADAMS or if there are problems in accessing a document located in ADAMS, contact the NRC Public Document Room (PDR) Reference staff at 1-800-397-4209, 301-415-4737, or by e-mail to pdr@nrc.gov.

This document may also be viewed electronically on the public computers located at the NRC's PDR, O-1-F21, One White Flint North, 11555 Rockville Pike, Rockville, MD 20852. The PDR reproduction contractor will copy documents for a fee.

Dated at NRC, Rockville, MD, this 23rd day of August, 2005.
For the Nuclear Regulatory Commission.
Daniel M. Gillen,
Deputy Director, Decommissioning Directorate, Division of Waste Management and Environmental Protection, Office of Nuclear Material Safety and Safeguards.

[FR Doc. E5-4707 Filed 8-26-05; 8:45 am]

BILLING CODE 7590-01-P